DEPARTMENT OF TRANSPORTATION

Federal Highway Administration

Environmental Impact Statement; Wiscasset and Edgecomb, ME

AGENCY: Federal Highway Administration (FHWA), DOT.

ACTION: Notice of intent.

SUMMARY: The FHWA is issuing this notice to advise the public that an environmental impact statement (EIS) will be prepared for a proposed highway project in the Towns of Wiscasset and Edgecomb, Sagadahoc County, Maine.

FOR FURTHER INFORMATION CONTACT: Mr. Mark Hasselmann, Manager, Right of Way and Environment, Maine Division, Federal Highway Administration, 40 Western Ave. Augusta, Maine 04330, Tel. 207/622-8355, ext. 24; Edward W. Hanscom, P.E., Project Manager, Maine Department of Transportation, State House Station 16, Augusta, Maine 04333-0016, Tel. 207/624-3320.

SUPPLEMENTARY INFORMATION: The FHWA, in cooperation with the Maine Department of Transportation, will prepare an environmental impact statement (EIS) on a proposal to improve public safety, increase mobility and reduce congestion through the U.S. Route 1 corridor in the Wiscasset-Edgecomb area. The purpose of this EIS is to establish a preferred alternative that will address the study purpose and need. Alternatives under consideration include (1) taking no action, (2) transportation system management including upgrades within the existing highway facilities and construction of a limited access highway on new location.

This project began in 1999 as an environmental assessment and the first public meeting was held in December 1999. An agency scoping meeting was held April 10, 2000 in Augusta, Maine and public scoping meetings were held in Wiscasset, Maine on May 24, 2000 and November 1, 2000.

Authority: 23 U.S.C. 315; 49 CFR 1.48.

Issued on: July 17, 2002.
Paul L. Lariviere,
Division Administrator, Federal Highway Administration, Augusta, Maine.

[FR Doc. 02-19027 Filed 7-26-02; 8:45 am]

BILLING CODE 4910-22-M